PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Fastener Quality Act Insignia Recordal Process.

Form Number(s): PTO-1611.

Agency Approval Number: 0651-0028.

Type of Request: Extension of a currently approved collection.

Burden: 33 hours annually.

Number of Respondents: 130 responses per year.

Average Hours per Response: The USPTO estimates that it will take 15 minutes (0.25 hours) to submit an application for recordal of insignia or renewal/reactivation of recordal under the Fastener Quality Act. This includes time to gather the necessary information, create the documents, and submit the completed request.

Needs and Uses: The public uses this information collection to comply with the insignia recordal provisions of the Fastener Quality Act (FQA). It includes one form, the Application for Recordal of Insignia or Renewal/Reactivation of Recordal Under the Fastener Quality Act (PTO-1611), which provides manufacturers with a convenient way to submit a request for the recordal of a fastener insignia or to renew or reactivate an existing Certificate of Recordal. Use of this form is not mandatory, and applicants may instead prepare requests for recordal using their own paper formats.

The USPTO uses the information to record or renew insignias under the FQA and to maintain the Fastener Insignia Register, which is open to public inspection. The public may download the Fastener Insignia Register from the USPTO Web site or purchase printed copies from the USPTO.

Affected Public: Individuals or households; business or other for-profit; not-for-profit institutions.

Frequency: On occasion.

Respondent's Obligation: Required to obtain or retain benefits.

OMB Desk Officer: Nicholas A. Fraser, e-mail Nicholas_A._Fraser@omb.eop.gov.

Once submitted, the request will be publicly available in electronic format through the Information Collection Review at www.reginfo.gov.

Paper copies of the above information collection proposal can be obtained by any of the following methods:

• E-mail: Susan.Fawcett@uspto.gov. Include “0651-0028 Fastener Quality Act Insignia Recordal Process copy request” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be submitted on or before February 11, 2009, to Nicholas A. Fraser, OMB Desk Officer, via e-mail at Nicholas_A._Fraser@omb.eop.gov or by fax (202) 395-5167, marked to the attention of Nicholas A. Fraser.

Dated: January 5, 2009.
Susan K. Fawcett,
Records Officer, USPTO, Office of the Chief Information Officer, Customer Information Services Group, Public Information Services Division.

[FR Doc. E9-331 Filed 1-9-09; 8:45 am]

BILLING CODE 3510-16-P